DEPARTMENT OF TRANSPORTATION

Federal Highway Administration

Environmental Impact Statement: Clackamas County, Oregon

AGENCY: Federal Highway Administration, Oregon Department of Transportation, and Clackamas County, Oregon.

ACTION: Notice of intent.

SUMMARY: The Federal Highway Administration (FHWA) is issuing this notice of intent to advise agencies and the public that an Environmental Impact Statement (EIS) will be prepared to assess the impacts of a proposed transportation project on Harmony Road in Clackamas County, Oregon.

DATES: A public scoping meeting will be held on Wednesday, May 9, 2007 at the Sunnybrook Service Center Auditorium, 9101 SE., Sunnybrook Blvd., Clackamas, OR 97015. The public scoping meeting will include an open house from 4 p.m. to 7 p.m. and informational presentations at 4:30, 5, 5:30, 6, and 6:30 p.m. The informational presentation will be followed by a question and answer period. An agency scoping meeting will be held on May 10, 2007 at the Oregon Department of Transportation, 123 NW Flanders, Room 344, Portland, OR 97209. The agency scoping meeting will be from 2:30 P.M. to 4:30 P.M.

FOR FURTHER INFORMATION CONTACT: Jeff Graham, P.E., Operations Engineer, Federal Highway Administration, 530 Center Street NE., Suite 100, Salem, OR 97301, Telephone: (503) 587-4727 or Ron Weinman, Principal Transportation Planner, Clackamas County, 9101 SE., Sunnybrook Blvd., Clackamas, OR 97015, Telephone: (503) 353-4533.

SUPPLEMENTARY INFORMATION: The FHWA, in cooperation with the Oregon Department of Transportation (ODOT), and Clackamas County Department of Transportation and Development, will prepare an EIS on a proposal to improve the transportation system in the SE Harmony Road corridor, from SE 82th Avenue to State Highway 224 (approximately 1.5 miles). The project will consider alignment and improvement options on SE Harmony Road and intersections at SE Railroad Avenue/SE Linwood Avenue and SE Lake Road/SE International Way. In addition, the project study will consider alignment options for the extension of SE Sunnybrook Boulevard west of SE 82nd Avenue and its western terminus. A significant project consideration is grade separation of the road and the Union Pacific rail line at the Harmony Road/Linwood Avenue/Railroad Avenue intersection.

Improvements to the corridor are considered necessary to enhance safety and to reduce congestion associated with existing and projected traffic demand. Levels of service at intersections in the area are currently failing and are anticipated to worsen without improvements. By 2030, the number of households in the study area is expected to increase by 24 percent and the number of jobs by 43 percent. Growth is anticipated in association with planned development in and around the extension of regional light-rail service to the Clackamas Regional Center, which encompasses the Harmony Road corridor and is adopted in the Metro 2040 Growth Concept.

The at-grade railroad mainline that crosses on the southwest side of the Harmony Road/Linwood Avenue/Railroad Avenue intersection is part of the future high-speed rail corridor between Eugene, OR and Vancouver, BC. Operation of high-speed passenger trains along this corridor mandates grade separation of the rail line and the roadway for safety and operational purposes. Currently, there are approximately 6 passenger trains and 24 freight trains crossing at this location each day, resulting in an average daily gate activation time of 150 minutes. These train crossings further burden the Harmony Road corridor with traffic delay.

The EIS will identify transportation needs and deficiencies in the project study area, including mobility, access, system linkages and continuity, and safety. The range of evaluated transportation alternatives in the EIS will be developed to meet the identified project purpose and need. Potential alternatives and combinations thereof may include but are not limited to: (1) Taking no action; (2) adding capacity to existing roadways; (3) extending Sunnybrook Boulevard to the west of SE 82nd Avenue and determining its alignment and terminus; (4) redesigning intersections along Harmony Road at Linwood Avenue/Railroad Avenue and Lake Road/International Way; (5) grade separating the road from the railroad crossing at the Harmony Road/Linwood Avenue/Railroad Avenue intersection; and (6) improving pedestrian and bicycle facilities. Design variations of potential alternatives will also be studied, as appropriate.

The EIS will be initiated with a scoping process. The scoping process will include a program of public outreach and agency coordination conducted over the next several months in order to elicit input on project purpose and need, potential alternatives, significant and insignificant issues, and collaborative methods of analyzing transportation alternatives and environmental impacts.

In total, the public outreach program will include multiple public meetings conducted by Clackamas County as well as coordination with two stakeholder committees—one committee comprised of community and technical representatives and the other committee comprised of policy level representatives. A public hearing will be held in connection with the release of the draft EIS. Public notice will be given regarding the time and place of the public meetings and hearing.

An Internet Web site (http://www.harmonyroadea.org) and other communication media will be utilized throughout the process to provide public information and to receive comments. All comments and input received during the EIS process will be considered and documented.

The FHWA, ODOT, and Clackamas County Department of Transportation and Development will evaluate significant transportation, environmental, social, and economic impacts of the project alternatives. Potential areas of impact include: Neighborhoods, Section 4(f) resources, environmental justice, and natural resources. All impacts will be evaluated for both the construction period and long-term period of operation. Measures to avoid, minimize and mitigate any significant adverse impacts will be developed.

Comments and suggestions are invited from all interested parties, to ensure that the full range of issues related to this project are addressed and all significant issues are identified. Comments or questions regarding the proposed action and the EIS should be directed to the FHWA or Clackamas County at the address provided above.

(Authority: 23 U.S.C. 315)

Dated: April 2, 2007.
Jeff Graham,
Operations Engineer, FHWA Oregon Division.

[FR Doc. E7-6580 Filed 4-6-07; 8:45 am]

BILLING CODE 4910-22-P